DEPARTMENT OF TRANSPORTATION

National Highway Traffic Safety Administration

[Docket No. NHTSA-2005-21845; Notice 2]

Decision That Nonconforming 2005 Mercedes Benz Type 463 Short Wheelbase Gelaendewagen Multipurpose Passenger Vehicles Are Eligible for Importation

AGENCY: National Highway Traffic Safety Administration, DOT.

ACTION: Notice of decision by National Highway Traffic Safety Administration that nonconforming 2005 Mercedes Benz Type 463 short wheelbase Gelaendewagen multipurpose passenger vehicles are eligible for importation.

SUMMARY: This document announces a decision by the National Highway Traffic Safety Administration (NHTSA) that certain 2005 Mercedes Benz Type 463 short wheelbase Gelaendewagen multipurpose passenger vehicles that were not originally manufactured to comply with all applicable Federal motor vehicle safety standards (FMVSS) are eligible for importation into the United States because they have safety features that comply with, or are capable of being altered to comply with, all applicable FMVSS.

DATES: This decision was effective September 23, 2005. The agency notified the petitioner at that time that the petition had been granted. This document provides public notice of that decision.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC (“JK”) of Baltimore, Maryland (Registered Importer 90-006), and Wallace Environmental Testing Laboratories, Inc., of Huston Texas (“WETL”)(Registered Importer 09-005) separately petitioned NHTSA to decide whether 2005 Mercedes Benz Type 463 short wheelbase Gelaendewagen multipurpose passenger vehicles are eligible for importation into the United States. NHTSA published notice of the petitions on July 29, 2005 (70 FR 43936) to afford an opportunity for public comment. The reader is referred to that notice for a thorough description of the petitions.

No comments were received in response to the notice of the petitions.

In their petitions, WETL and JK differed with respect to whether the vehicle needed to be modified to conform to certain of the FMVSS, and if it did require such modifications, what those modifications should be. For example, J.K. stated that a lens marked “Brake” would have to be substituted for a lens with a nonconforming symbol on the brake failure indicator lamp, and the speedometer would have to be replaced or converted to one reading in miles per hour to achieve conformity with Standard No. 101, Controls and Displays. WETL did not identify these modifications as being needed. J.K. also stated that U.S.-model headlamps would have to be installed to achieve conformity with Standard No. 108 Lamps, Reflective Devices, and Associated Equipment. WETL did not identify this modification as being needed, but did state that the U.S.-model turn signal lamps and a U.S.-model high-mounted stop lamp assembly would be needed to achieve conformity with the standard. J.K. also stated that a tire information placard would have to be installed to meet the requirements of Standard No. 120 Tire Selection and Rims for Vehicles other than Passenger Cars, but WETL did not identify this modification as being needed. Finally, WETL claimed that a rollover valve would have to be installed in the vehicle to comply with Standard No. 301 Fuel System Integrity, but J.K. claimed that modifications needed to meet U.S. Environmental Protection Agency (EPA) OBDII, Spit Back, and enhanced EVAP requirements will control all fuel leaks in the case of an impact.

To reconcile these differences, the agency has decided that in addition to the modifications that the two petitioners agreed upon, as set forth in the notice of the petitions, an RI must demonstrate, in the conformity statements submitted for any vehicle imported under this eligibility decision, that the following modifications have been made:

Standard No. 101 Controls and Displays: (a) Replacement of the instrument cluster with a U.S.-model component; and (b) reprogramming and initialization of the vehicle control system to integrate the new instrument cluster and activate required warning systems or, substitution of a lens marked “Brake” for a lens with a noncomplying symbol on the brake failure indicator lamp, and replacement or conversion of the speedometer to read in miles per hour.

Standard No. 108 Lamps, Reflective Devices and Associated Equipment: (a) Installation of U.S.-model taillamp assemblies or modification of existing taillamps to conform to the standard; (b) installation of front and rear U.S.-model sidemarker lamps; (c) installation of U.S.-model headlamps; (d) installation of U.S.-model front turn signal lamps; and (e) installation of a U.S.-model high-mounted stoplamp assembly.

Standard No. 120 Tire Selection and Rims for Motor Vehicles Other than Passenger Cars: Installation of a tire information placard.

Standard No. 301 Fuel System Integrity: Inspection of all vehicles and installation of U.S.-model components on vehicles that are not already so equipped.

Based on these considerations, the agency decided to grant these petitions.

Vehicle Eligibility Number for Subject Vehicles

The importer of a vehicle admissible under any final decision must indicate on the form HS-7 accompanying entry the appropriate vehicle eligibility number indicating that the vehicle is eligible for entry. VCP-31 is the vehicle eligibility number assigned to vehicles admissible under this notice of final decision.

Final Decision

Accordingly, on the basis of the foregoing, NHTSA has decided that 2005 Mercedes Benz Type 463 short wheelbase Gelaendewagen multipurpose passenger vehicles that were not originally manufactured to comply with all applicable FMVSS have safety features that comply with, or are capable of being altered to comply with, all applicable FMVSS.

Authority: 49 U.S.C. 30141(a)(1)(A) and (b)(1); 49 CFR 593.8; delegations of authority at 49 CFR 1.50 and 501.8.

Claude H. Harris,
Director, Office of Vehicle, Safety Compliance.

[FR Doc. E6-3409 Filed 3-9-06; 8:45 am]

BILLING CODE 4910-59-P